DEPARTMENT OF TRANSPORTATION

National Highway Traffic Safety Administration

[Docket No. NHTSA-2006-26282; Notice 1]

U.S. Bus Corporation, Receipt of Petition for Decision of Inconsequential Noncompliance

U.S. Bus Corporation (U.S. Bus) has determined that certain school buses it produced in 1998 through 2006 do not comply with S9.3(c) of 49 CFR 571.111, Federal Motor Vehicle Safety Standard (FMVSS) No. 111, “Rearview mirrors.” U.S. Bus has filed an appropriate report pursuant to 49 CFR Part 573, “Defect and Noncompliance Reports.”

Pursuant to 49 U.S.C. 30118(d) and 30120(h), U.S. Bus has petitioned for an exemption from the notification and remedy requirements of 49 U.S.C. Chapter 301 on the basis that this noncompliance is inconsequential to motor vehicle safety.

This notice of receipt of U.S. Bus's petition is published under 49 U.S.C. 30118 and 30120 and does not represent any agency decision or other exercise of judgment concerning the merits of the petition.

Affected are a total of approximately 4,019 Universe and Sturdibus school buses produced from 1998 through October 23, 2006. S9.3(c) of FMVSS No. 111 requires that:

Each school bus which has a mirror installed in compliance with S9.3(a) that has an average radius of curvature of less than 889 mm, as determined under S12, shall have a label visible to the seated driver. * * * The label shall state the following: “USE CROSS VIEW MIRRORS TO VIEW PEDESTRIANS WHILE BUS IS STOPPED. DO NOT USE THESE MIRRORS TO VIEW TRAFFIC WHILE BUS IS MOVING. IMAGES IN SUCH MIRRORS DO NOT ACCURATELY SHOW ANOTHER VEHICLE'S LOCATION.”

The rearview mirrors on the noncompliant buses are installed in a position which may block the driver's view of this label. U.S. Bus has corrected the problem that caused these errors so that they will not be repeated in future production.

U.S. Bus believes that the noncompliance is inconsequential to motor vehicle safety and that no corrective action is warranted. U.S. Bus states this is based on the following:

1. The decal in question is required only on school buses; 2. The crossview mirrors requiring the decal are only required on school buses; 3. School bus drivers are thoroughly trained in driving a school bus, including proper adjustment and viewing images through both the rearview and crossview mirrors; 4. The placement of the decal has no effect on the safety or reliability of the vehicle; 5. The placement of the decal may or may not be visible from the driver's seated position, and depends upon the adjustment of the rearview mirror as to whether the decal is visible by the driver.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging on to the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: January 12, 2007.

(Authority: 49 U.S.C. 30118, 30120: delegations of authority at CFR 1.50 and 501.8)

Issued on: December 7, 2006.
Daniel C. Smith,
Associate Administrator for Enforcement.

[FR Doc. E6-21224 Filed 12-12-06; 8:45 am]

BILLING CODE 4910-59-P